DEPARTMENT OF THE INTERIOR

National Park Service

[NPS-WASO-NAGPRA-11477; 2200-1100-665]

Notice of Inventory Completion: Maxwell Museum of Anthropology, University of New Mexico, Albuquerque, NM

AGENCY: National Park Service, Interior.

ACTION: Notice.

SUMMARY: The Maxwell Museum's Laboratory of Human Osteology has completed an inventory of human remains, in consultation with the appropriate Indian tribe, and has determined that there is a cultural affiliation between the human remains and a present-day Indian tribe. Representatives of any Indian tribe that believes itself to be culturally affiliated with the human remains may contact the Maxwell Museum of Anthropology. Repatriation of the human remains to the Indian tribe stated below may occur if no additional claimants come forward.

DATES: Representatives of any Indian tribe that believes it has a cultural affiliation with the human remains should contact the Maxwell Museum at the address below by November 26, 2012.

ADDRESSES: Dr. Heather Edgar, Maxwell Museum of Anthropology, MSC01 1050, University of New Mexico, Albuquerque, NM 87131-0001, telephone (505) 277-4415.

SUPPLEMENTARY INFORMATION: Notice is here given in accordance with the Native American Graves Protection and Repatriation Act (NAGPRA), 25 U.S.C. 3003, of the completion of an inventory of human remains in the possession of the Maxwell Museum in Albuquerque, NM. The human remains were removed from Sandoval County, NM.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the professional staff in the Maxwell Museum's Laboratory of Human Osteology in consultation with representatives of the Pueblo of Jemez, New Mexico.

History and Description of the Remains

Between 1934 and 1935, human remains representing, at minimum, one individual were removed from the Jemez Cave site in Sandoval County, NM, by directors of the University of New Mexico Field School and eight laborers. The Museum of New Mexico, the School of American Research, and the University of New Mexico supported the project and the excavation. The human remains were accessioned by the Maxwell Museum in 1990. No known individuals were identified. No associated funerary objects are present.

In the early 1900s, human remains representing, at minimum, seven individuals were removed from the Amoxiumqua site (LA 481), in Sandoval County, NM, during excavations by University of New Mexico field schools. The human remains were accessioned by the Maxwell Museum in 1973. No known individuals were identified. No associated funerary objects are present.

Between 1939 and 1949, human remains representing, at minimum, 22 individuals were removed from the BJ 74 site (LA 38962), in Sandoval County, NM, during excavations by Paul Reiter and students from the University of New Mexico. The human remains were accessioned by the Maxwell Museum in 2006. No known individuals were identified. No associated funerary objects are present.

The sites listed in this notice are Puebloan sites of the upper Jemez River drainage and are ancestral Jemez sites. Populations that inhabited these locations are linked by Native oral tradition, Euro-American records, and archaeological evidence to members of the present-day Pueblo of Jemez, New Mexico.

Determinations Made by the Maxwell Museum

Officials of the Maxwell Museum have determined that:

• Pursuant to 25 U.S.C. 3001(9), the human remains described in this notice represent the physical remains of 30 individuals of Native American ancestry.

• Pursuant to 25 U.S.C. 3001(2), there is a relationship of shared group identity that can be reasonably traced between the Native American human remains and the Pueblo of Jemez.

Additional Requestors and Disposition

Representatives of any Indian tribe that believes itself to be culturally affiliated with the human remains should contact Dr. Heather Edgar, Maxwell Museum of Anthropology, Albuquerque, NM 87131-0001, telephone (505) 277-4415 before November 26, 2012. Repatriation of the human remains to the Pueblo of Jemez, New Mexico, may proceed after that date if no additional claimants come forward.

The Maxwell Museum is responsible for notifying the Pueblo of Jemez, New Mexico, that this notice has been published.

Dated: October 10, 2012.
Sherry Hutt,
Manager, National NAGPRA Program.

[FR Doc. 2012-26316 Filed 10-25-12; 8:45 am]

BILLING CODE 4312-50-P